DEPARTMENT OF THE INTERIOR

Bureau of Land Management

[UT-030-1652-PA-24 1A]

RIN 1004-AD40

Notice of Interim Final Supplementary Rules on Public Land In Utah

AGENCY: Bureau of Land Management, Utah State Office, Utah.

ACTION: Interim final Supplementary Rules for public land within Grand Staircase-Escalante National Monument, and at associated facilities, Cedar City Field Office, Utah.

SUMMARY: The Bureau of Land Management's Cedar City Field Office (BLM) is publishing interim final supplementary rules. These supplementary rules will apply to public assemblies, meetings, gatherings, demonstrations, parades, and similar activities on the public lands within Grand Staircase-Escalante National Monument (the Monument), and at Monument offices, visitor centers, and other facilities. The supplementary rules governing where protesters may demonstrate are needed in order to protect the Monument's natural resources, access to public facilities, and the public health and safety.

DATES: The interim final supplementary rules will be effective September 1, 2000, but we will accept comments and publish final supplementary rules that respond to comments. You should submit your comments by October 2, 2000. In developing final supplementary rules, BLM may not consider comments postmarked or received in person or by electronic mail after this date.

ADDRESSES: Mail: Director (630), Bureau of Land Management, Administrative Record, Room 401 LS, 1849 C Street, NW, Washington, D.C. 20240.

Personal or messenger delivery: Room 401, 1620 L Street, NW, Washington, DC 20036.

Internet e-mail: WOComment@blm.gov. (Include “Attn: GSENM”)

FOR FURTHER INFORMATION CONTACT: Keith Aller, Utah State Office, 801-539-4085.

SUPPLEMENTARY INFORMATION:

I. Public Comment Procedures

Your comments on the interim final supplementary rules should be specific, should be confined to issues pertinent to the interim final supplementary rules, and should explain the reason for any recommended change. Where possible, your comments should reference the specific section or paragraph of the proposal that you are addressing. BLM may not necessarily consider or include in the Administrative Record for the final supplementary rules comments that BLM receives after the close of the comment period (see DATES) or comments delivered to an address other than those listed above (see ADDRESSES).

BLM will make your comments, including your name and address, available for public review at the Washington Office of BLM address listed in ADDRESSES above during regular business hours (7:45 a.m. to 4:30 p.m., Monday through Friday, except Federal holidays). We will also keep copies of the comments at the—

• Utah State Office, 324 South State Street, 4th Floor, Salt Lake City, Utah 84111;

• Cedar City Field Office, 176 East D.I. Sargent Drive, Cedar City, Utah 84720; and

• Monument Headquarters, 180 West 300 North, Kanab, Utah 84741.

Under certain conditions, BLM can keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

II. Background

The President designated Grand Staircase-Escalante National Monument under the Antiquities Act on September 18, 1996. In doing so, he assigned management responsibility for the Monument to BLM.

The BLM provided for substantial public participation and coordination during the development of Grand Staircase-Escalante National Monument Management Plan. This public participation included: 15 scoping workshops; a science symposium; receipt and analysis of more than 6,800 comments on the draft plan; 13 draft plan open house sessions; and 13 notices published in the Federal Register related to the development of the plan. Provisions in the Plan related to the protection of persons, property, and public lands and resources.

III. Discussion of the Supplementary Rules

These supplementary rules will apply to the public lands within Grand Staircase-Escalante National Monument managed by the Bureau of Land Management. BLM has determined these supplementary rules necessary to implement the provisions of the Plan related to the protection of persons, property, and public lands and resources. Our objective is to provide a quality recreational experience to the general public, with minimal amounts of conflicts among users, and to prevent degradation of the public lands and resources. To accomplish this objective, we are promulgating these supplementary rules, which are directed at the physical impacts of public demonstrations, parades, assemblies, and similar activities on the Monument, its natural resources, its offices and other structures, and its personnel and visitors. The supplementary rules are not directed at the subject matter of these activities.

The interim supplementary rules require you to obtain a permit from BLM before conducting a public demonstration or other activity covered by the supplementary rules.

You may read maps of the areas to which these supplementary rules apply at the BLM Cedar City Field Office, 176 East D.l. Sargent Drive, Cedar City, Utah 84720, and at the Utah State Office, 324 South State Street, Suite 301, Salt Lake City, Utah 84145, where they are included in Grand Staircase-Escalante National Monument Management Plan. You may also find this information in the following Monument offices:

• Grand Staircase-Escalante National Monument, Kanab Headquarters, 180 West 300 North, Kanab, Utah 84741, (435) 644-4300

• Grand Staircase-Escalante National Monument, Escalante Interagency Office, PO Box 225 (755 West Main Street), Escalante, Utah 84726, (435) 826-5600

• Grand Staircase-Escalante National Monument, Cannonville Visitor Center, 10 Center Street, P.O. Box 189961, Cannonville, Utah 84718 (435) 679-8980 (Open Seasonally March-November)

The first section of the supplementary rules explains that they are necessary to protect the Monument's natural resources and the public health and safety, relating the supplementary rules to the purposes of the Monument as stated in the President's Proclamation of September 18, 1996.

Section 2 of the supplementary rules lays out the regulatory authority for issuing the supplementary rules, and explains that potential damage to sensitive resources and possible interference with other users justifies establishing a permit system to regulate public assemblies, parades, demonstrations, and similar events.

Section 3 explains the scope of the supplementary rules by defining “public demonstration.” The supplementary rules covers group or individual protests, assemblies, picketing, parades, marching, speechmaking, placing signs or banners, and all other like forms of conduct that involve the communication or expression of views or grievances. It explains that an element of the definition is the intent or likelihood of attracting a crowd. This section also makes it clear that wearing a tee-shirt with a slogan or driving a car with a bumper sticker does not constitute a demonstration.

Section 4 of the supplementary rules answers the question where BLM will allow these activities by stating as a general rule that we will allow them anywhere within the Monument and at associated facilities. However, under paragraph b. of this section, BLM will designate certain specific areas or locations, both within the Monument and at Monument facilities, where we will not allow public demonstrations under any circumstances, regardless of their size or nature. These would include—

• All entryways at visitor centers, including entrances to restrooms,

• BLM administrative offices,

• Areas with sensitive habitat,

• Scientific and historical sites, including paleontological and archaeological sites

• Inherently dangerous sites, and

• Areas with fragile or scarce features and resources such as sandstone arches or endangered species.

We anticipate that most activities covered by these supplementary rules will occur at or near visitor centers and other facilities frequented by the public. Other areas will also generally be open to public demonstrations. However, as resource inventories proceed, BLM may close some of these open areas to protect sensitive environments and resources. We will mark such further closures on the maps provided for in this section.

BLM can issue permits on an expedited basis for demonstrations in areas open to this activity at or near public facilities like visitor centers. For other areas, however, that are not closed to demonstrations, permits may require additional time to process, because of the need to perform environmental analyses, cultural resource surveys, and so forth.

Finally, paragraph c. authorizes BLM to suggest alternative sites for your activity if we cannot allow it at your preferred location.

Section 5 sets forth the procedures for applying for and obtaining permits under these supplementary rules. Applicants must use the form now used under 43 CFR part 2920 to apply for general land use permits, and must provide BLM with common sense information about their intended activity, including the name of the applicant, the time and place proposed for the activity, the approximate number of participants, and a list of equipment to be used. This section also gives BLM discretion to ask for additional information if necessary.

Section 6 explains how BLM will decide whether to issue a permit, based on the size and location of the proposed activity. For areas where these activities are normally allowed, BLM will, without regard to the subject matter of the activity, determine whether we can give you a permit for your proposed activity, considering the size of your gathering, the type of equipment (such as vehicles or sound equipment) you propose to use, competing uses, and other appropriate factors. BLM may also impose restrictions on some types of activities in some classes of land. For example, we may prohibit leafleting in wilderness study areas, where litter would be particularly offensive.

Section 7 provides that BLM will not issue multiple permits for the same location, but explains that we may issue permits for competing events in the same general area.

Section 8 allows BLM to impose terms and conditions on these permits in order to protect Monument resources, and preserve the public health and safety.

Section 9 provides that BLM will not collect any permit fees, or charge for cost recovery, require a bond or other financial guarantee, or require liability insurance.

Section 10 covers permit revocations. BLM has discretion to revoke your permit if your activity causes the consequences that would have caused us to deny the permit in the first place, had we anticipated those consequences. That is, we may revoke your permit if your demonstration or assembly substantially impairs the environment of the Monument, or its resources, or substantially interferes with visitors to the Monument and its facilities, or Monument operations. BLM may also revoke your permit if you violate its terms or conditions.

Section 11 lists the acts that are prohibited by these supplementary rules:

• Conducting or participating in public assemblies, meetings, parades, demonstrations, and so forth, that are not authorized by a permit;

• Violating permits terms or conditions;

• Refusing to leave upon direction by a law enforcement officer after BLM has revoked your permit; or

• Obstructing pedestrians or vehicles, or physically harassing visitors.

Finally, section 12 directs you to the statutory sources for the possible fines and other penalties, you will be subject to if you violate any of these supplementary rules. These sources include the United States Criminal Code in Title 18 of the United States Code, the Taylor Grazing Act, and the Federal Land Policy and Management Act.

BLM finds good cause to publish these supplementary rules effective the date of publication, without prior notice and opportunity for public comment, because of the imminent need for regulatory authority to manage political protests and other public demonstrations during periods of heaviest public visitation at Grand Staircase-Escalante National Monument.

There have been several protests and demonstrations at Monument visitor centers, primarily on holiday weekends. The demonstrations centered around the front steps to the building. This effectively cut off visitor access to the building during the demonstrations. Holiday weekends are busy times at Monument visitor centers. While these demonstrations were going on, numerous visitors turned away and did not get the information they wanted and needed to ensure their own safety and the protection of Monument resources.

The parking lots of these offices and visitor centers serve as emergency staging areas for search and rescue operations, and access to and from these areas is vital to these operations. The parking lots also occasionally serve as staging areas when wildfire operations are going on in the area, as was the case on Memorial Day weekend 2000. Disruptions in the parking area interfere with these emergency operations, as well as BLM's day to day administrative operations.

The supplementary rules that go into effect upon publication of this notice do not substantially interfere with the right of protestors and demonstrators to speak and peaceably to assemble. They do allow BLM to keep entryways, emergency staging areas, and other areas essential to administration of the Monument clear, and also to protect the natural values of the Monument in case protesters wish to stage demonstrations away from visitor centers and in the Monument itself.

The next likely occasion for conflicts between the right to speak and assemble and heavy public visitation and need for access will be Labor Day Weekend, 2000, in less than 30 days. The need to use these places for emergency staging is unpredictable but ongoing in this intense wildfire season.

The supplementary rules promulgated today will enable BLM to prevent demonstrators from staging their activities in areas that interfere with public access, but to allow them to demonstrate in areas readily visible to Monument visitors and others.

IV. Procedural Matters

Executive Order 12866, Regulatory Planning and Review

These supplementary rules are not a significant regulatory action and are not subject to review by Office of Management and Budget under Executive Order 12866. These supplementary rules will not have an effect of $100 million or more on the economy. They are not intended to affect commercial activity, but rather gatherings of people on certain public lands. They are directed at controlling the physical effects of the gatherings on the land and its resources themselves, on public health and safety, and on other users. They will not adversely affect, in a material way, the economy, productivity, competition, jobs, the environment, public health or safety, or State, local, or tribal governments or communities. These interim final supplementary rules will not create a serious inconsistency or otherwise interfere with an action taken or planned by another agency. The supplementary rules do not alter the budgetary effects of entitlements, grants, user fees, or loan programs or the right or obligations of their recipients; nor do they raise novel legal or policy issues. While the supplementary rules are directed at exercises of First Amendment rights of speech and assembly, and therefore are subject to careful scrutiny, there are ample precedents at all levels of government for requiring permits for parades and other similar demonstrations.

Clarity of the Supplementary Rules

Executive Order 12866 requires each agency to write regulations that are simple and easy to understand. We invite your comments on how to make these interim final supplementary rules easier to understand, including answers to questions such as the following:

(1) Are the requirements in the interim final supplementary rules clearly stated?

(2) Do the interim final supplementary rules contain technical language or jargon that interferes with their clarity?

(3) Does the format of the interim final supplementary rules (grouping and order of sections, use of headings, paragraphing, etc.) aid or reduce their clarity?

(4) Would the supplementary rules be easier to understand if they were divided into more (but shorter) sections? (A “section” appears in bold type and is preceded by the abbreviation “Sec.” and a numbered heading, for example, “Sec. 4 Where may I hold the public demonstrations covered by these supplementary rules?”.)

(5) Is the description of the interim final supplementary rules in the SUPPLEMENTARY INFORMATION section of this preamble helpful in understanding the interim final supplementary rules? How could this description be more helpful in making the supplementary rules easier to understand?

Please send any comments you have on the clarity of the supplementary rules to the address specified in the ADDRESSES section.

National Environmental Policy Act

BLM has prepared an environmental assessment (EA) and has found that the interim final supplementary rules would not constitute a major Federal action significantly affecting the quality of the human environment under section 102(2)(C) of the Environmental Protection Act of 1969 (NEPA), 42 U.S.C. 4332(2)(C). The supplementary rules enable BLM to regulate public demonstrations that have historically occurred exclusively at BLM offices and visitor centers, and to manage them in such a way that they do not interfere with public access to these facilities and with BLM emergency and other administrative functions. The supplementary rules also allow BLM to decide whether other areas that may have sensitive habitats or other natural features should be closed to such activities. To the extent that the regulated activities are likely to occur exclusively at improved facilities, they are likely to have no appreciable effect on the human environment. Since the supplementary rules allow BLM to limit the locations of demonstrations that may in the future take place in backcountry areas, the supplementary rules will prevent such activities from having negative effects on the environment. A detailed statement under NEPA is not required. BLM has placed the EA and the Finding of No Significant Impact (FONSI) on file in the BLM Administrative Record at the address specified in the ADDRESSES section. BLM invites the public to review these documents and suggests that anyone wishing to submit comments in response to the EA and FONSI do so in accordance with the Written Comments section above.

Regulatory Flexibility Act

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but to public and private organizations, groups, and individuals who wish to stage political protests and demonstrations, conduct parades and meetings, and otherwise to express their views on the public lands and at the public facilities of Grand Staircase-Escalante National Monument. Therefore, BLM has determined under the RFA that these interim final supplementary rules would not have a significant economic impact on a substantial number of small entities.

Small Business Regulatory Enforcement Fairness Act (SBREFA)

These supplementary rules do not constitute a “major rule” as defined at 5 U.S.C. 804(2). Again, the supplementary rules pertain only to public and private organizations, groups, and individuals who wish to stage political protests and demonstrations, conduct parades and meetings, and otherwise to express their views in one locale, the public lands and facilities of Grand Staircase-Escalante National Monument in Utah. In this respect, the regulation of these activities is limited to that necessary to protect the public lands and facilities and those, including small business concessioners and outfitters, who use them. The supplementary rules have no effect on business—commercial or industrial—use of the public lands.

Unfunded Mandates Reform Act

These supplementary rules do not impose an unfunded mandate on State, local, or tribal governments or the private sector of more than $100 million per year; nor do these interim final supplementary rules have a significant or unique effect on State, local, or tribal governments or the private sector. The supplementary rules do not require anything of State, local, or tribal governments. Therefore, BLM is not required to prepare a statement containing the information required by the Unfunded Mandates Reform Act (2 U.S.C. 1531 et seq.)

Executive Order 12630, Governmental Actions and Interference With Constitutionally Protected Property Rights (Takings)

The supplementary rules do not represent a government action capable of interfering with constitutionally protected property rights. The supplementary rules do not address property rights in any form, and do not cause the impairment of anyone's property rights. Therefore, the Department of the Interior has determined that the supplementary rules would not cause a taking of private property or require further discussion of takings implications under this Executive Order.

Executive Order 13132, Federalism

The supplementary rules will not have a substantial direct effect on the States, on the relationship between the national government and the States, or on the distribution of power and responsibilities among the various levels of government. The supplementary rules affect land in only one State, Utah, and do not address jurisdictional issues involving the State government. Therefore, in accordance with Executive Order 13132, BLM has determined that these interim final supplementary rules do not have sufficient Federalism implications to warrant preparation of a Federalism Assessment.

Executive Order 12988, Civil Justice Reform

Under Executive Order 12988, the Office of the Solicitor has determined that these interim final supplementary rules would not unduly burden the judicial system and that it meets the requirements of sections 3(a) and 3(b)(2) of the Order.

Paperwork Reduction Act

The Office of Management and Budget has approved the information collection requirements in the interim final supplementary rules under the Paperwork Reduction Act of 1995, 44 U.S.C. 3501 et seq., and has assigned clearance number 1004-0009. The section of these interim final supplementary rules with information collection requirements is section 5(b), and BLM estimates the public reporting burden of this section to average, respectively, 5.955 hours per response. This estimate includes the time for reviewing instructions, searching existing data sources, gathering and maintaining the data needed, and completing and reviewing the collection of information.

Send comments regarding this burden estimate or any other aspect of this collection of information, including suggestions for reducing the burden, to Information Collection Clearance Officer, Bureau of Land Management, U.S. Department of the Interior, 1849 C Street, NW, Mail Stop 401-LS, Washington, DC 20240, and Desk Officer for the Department of the Interior, Office of Information and Regulatory Affairs, Office of Management and Budget, New Executive Office Building, Washington, DC 20503, Attention: 1004-AD40.

Author

The principal author of these supplementary rules is Jeff Long of the Monument staff, BLM, assisted by Ted Hudson of the Regulatory Affairs Group, Washington Office, BLM, and Kimberly Fondren of the Office of the Solicitor, Department of the Interior.

For the reasons stated in the Preamble, and under the authority of 43 CFR 8365.1-6, the Utah State Director, Bureau of Land Management, issues supplementary rules for Grand Staircase-Escalante National Monument, to read as follows:

Dated: August 21, 2000.
Sally Wisely,
State Director.

Supplementary Rules for Grand Staircase-Escalante National Monument

Permits for Public Assemblies, Demonstrations, Parades, Meetings, Gatherings, and Other Special Events

Sec.

1 Why is BLM promulgating these Supplementary Rules?

2 Under what authorities does BLM promulgate these Supplementary Rules?

3 What is a public demonstration?

4 Where may I hold the public demonstrations covered by these supplementary rules?

5 What are the procedures for obtaining a permit under these supplementary rules?

6 What will BLM consider in deciding whether to issue or deny a permit?

7 How will BLM accommodate competing or multiple protests, assemblies or demonstrations?

8 What terms and conditions will BLM include in my permit?

9 What fees must I pay for a permit?

10 When may BLM revoke my permit?

11 Prohibited acts.

12 Penalties.

Authority: 43 CFR 8365.1-6.

Sec. 1—Why is BLM Promulgating These Supplementary Rules?

a. Grand Staircase-Escalante National Monument (the Monument) was designated by the President of the United States in a proclamation on September 18, 1996, in order to set apart and reserve the public lands in the area that comprises the Monument for the purpose of protecting the unspoiled natural areas, frontier qualities, and scientific, cultural, and historical objects found there. By virtue of this proclamation and the completion of the final Grand Staircase-Escalante National Monument Management Plan, the Bureau of Land Management (BLM) has determined that the Monument is a “special area” whose resources require special management and control measures for their protection, and where you must obtain permits for certain activities, including public demonstrations.

b. These supplementary rules are necessary to protect the Monument's natural resources and the public health and safety.

Sec. 2 Under What Authorities Does BLM Promulgate These Supplementary Rules?

a. 43 CFR 8372.0-5 (g) defines a special area as an area established as a component of the National Trails System, the National Wild and Scenic Rivers System, the National Wilderness System, an area covered by joint agreement between the Bureau of Land Management and a State government as provided for in title II of the Sikes Act, or any other area where BLM determines that the resources require special management and control measures for their protection.

b. 43 CFR 8365.1-6, issued under section 303 of the Federal Land Policy and Management Act (43 U.S.C. 1733), authorizes BLM State Directors to issue supplementary rules that may provide for the protection of persons, property, and public lands and resources.

Sec. 3 What is a Public Demonstration?

a. For purposes of these supplementary rules, public demonstration means public group or individual protests, assemblies, picketing, parades, marching, speechmaking, placement of signs or banners, and all other like forms of conduct that involve the communication or expression of any views or grievances. An essential element of a demonstration is that it is conduct that has the effect of, or intent or propensity to, draw a crowd of onlookers.

b. Public demonstrations do not include casual use of the public lands by visitors or tourists that does not have an intent or propensity to attract a crowd or onlookers. Such demonstrations specifically do not include slogans displayed on vehicles or other equipment or as part of wearing apparel, such as on bumper stickers or tee-shirts. They also do not include demonstrations of recreational or educational activities, such as demonstrations of outdoor skills or archaeological techniques.

Sec. 4 Where may I hold the public demonstrations covered by these supplementary rules?

a. Except as provided in paragraphs b. and c. of this section, BLM will permit public demonstrations, parades, assemblies, and similar activities anywhere within the Monument and at associated facilities and visitor centers outside the Monument boundaries.

b. BLM will designate on a map, which will be available in the Cedar City Field Office, and at the Monument offices in Kanab, Escalante, and Cannonville, Utah, the locations not available for public demonstrations. BLM will impose this designation only where we find, in writing, that such activities would likely:

1. Cause injury or damage to sensitive Monument resources, including but not limited to archaeological and paleontological sites, endangered species and other sensitive wildlife habitat, and delicate natural formations;

2. Impair an unspoiled natural area and its frontier qualities, where there would be no reasonable mitigation measures available;

3. Substantially interfere with interpretative, visitor service, or other program activities, or with the administrative activities of BLM;

4. Substantially impair the operation of public use facilities or services; or

5. Present a clear and present danger to the public health and safety.

c. If BLM finds that we cannot permit your activity at a specific location, we may suggest other nearby locations that are more appropriate or are not subject to a conflicting permit BLM has already issued or approved.

Sec. 5 What are the procedures for obtaining a permit under these supplementary rules?

The following permit procedures apply to all public lands within Grand Staircase-Escalante National Monument and at associated facilities outside the boundaries of the Monument that are open to public demonstrations under sec. 2 of these supplementary rules:

a. When must I obtain a permit under these supplementary rules? You must obtain a permit before conducting public demonstrations, as defined in sec. 2 of these supplementary rules.

b. Where must I submit my application? You may submit your application to any Monument office or the Cedar City District Office. You may obtain an application form at any BLM office.

c. What must I include in my application? Your application for this permit must include—

1. your name;

2. the date, time, duration, and format or layout of the proposed event;

3. the specific location you wish to use, identified by legal description or site name, whichever BLM finds appropriate;

4. your estimate of the number of persons expected to attend;

5. whether you propose to distribute or sell printed materials or any other materials at the permit site as part of your activity;

6. a statement of the type of vehicles, sound equipment, or other equipment or props, if any, that you wish to use (if applicable); and

7. any other information required by BLM and/or the permit application form.

c. Must I specify the subject matter of my public demonstration? Your application does not need to include the subject matter of your activity.

d. When and how will BLM handle my application? BLM will make its decision within 7 business days. We will issue a permit for a demonstration on land open for this purpose upon proper application unless:

1. BLM has issued a permit or will approve a prior application for a permit for the same time and place;

2. BLM finds that the event presents a clear and present danger to the public health or safety; or

3. The event is of such nature or duration that BLM finds that, applying the criteria in sec. 4 of these supplementary, we cannot reasonably accommodate it in the particular location applied for, considering such things as—

i. damage to Monument resources or facilities;

ii. interference with lawful occupancy and use by others; or

iii. disruption of public use of facilities.

4. You apply for a permit for an area that BLM has identified under sec. 4 of these supplementary rules as not available for demonstrations.

e. How does BLM deny permits? If BLM denies your permit, we will inform you in writing of the reason(s) for the denial.

Sec. 6 What Will BLM Consider in Deciding Whether to Issue or Deny a Permit?

a. BLM will consider the following factors in deciding whether to issue or deny a permit for a public demonstration at a particular site:

1. Whether the site can accommodate the type and size of vehicles, sound equipment, or other equipment or props, if any, that you wish to use;

2. Whether the site can accommodate the number of participants you expect for the demonstration;

3. Competing uses of the specific location you wish to use; and

4. Other factors that BLM deems appropriate in order to protect public health and safety and to preserve Monument resources against degradation.

b. BLM will not consider the subject matter of your proposed demonstration in deciding whether to issue or deny a permit.

c. BLM will weigh the impact of your proposed demonstration, considering the factors listed in paragraph (a) of this section, in light of the following criteria:

1. The demonstration must not impair an unspoiled natural area and its frontier qualities, where there would be no reasonable mitigation measures available;

2. The demonstration must not unreasonably interfere with other users of the public lands; and

3. The demonstration must not impair public access to Monument facilities.

c. If BLM concludes that your permit must be denied under paragraph

b. Of this section, we will suggest an alternative site or other content-neutral changes in your public demonstration that would enable us to issue you a permit.

Sec. 7 How Will BLM Accommodate Competing or Multiple Protests, Assemblies or Demonstrations?

If two or more applicants apply for permits under these supplementary rules for events at the same time and location, BLM will not issue multiple permits for the same location, but may, in consultation with the applicants, issue permits for events in the same general area.

Sec. 8 What Terms and Conditions Will BLM Include in My Permit?

Your permit will set out the terms and conditions for its use, including but not limited to the following:

a. BLM will allow distribution and sale of printed materials, including leaflets, newspapers, pamphlets, books, and flyers related to the demonstration, at the permit site. The permit will state the terms and conditions for such distribution, if you propose it as part of your activity.

b. The permit may contain conditions to ensure the protection of monument areas from degradation of the resource and interference with other lawful uses and users. Such conditions may include reasonable limitations on the equipment you may use and the time and area within which BLM will allow the demonstration.

c. BLM will issue permits for no more than 7 days. We may extend permits for another 7 days, upon a new application, except where another applicant has previously requested use of the same location.

Sec. 9 What Fees Must I Pay for a Permit?

BLM will not require payment of a fee for any permit issued under these supplementary rules. BLM also will not require recovery of our administrative costs, or posting of a bond or other financial guarantee, or require liability insurance.

Sec. 10 When May BLM Revoke My Permit?

a. BLM may revoke a permit if you or your activity—

1. Causes injury or damage to Monument resources;

2. Substantially impairs the unspoiled naturalness and frontier qualities of the Monument, or the peace and good order at associated facilities, including visitor centers and offices;

3. Substantially interferes with interpretative, visitor service, or other program activities, or with the administrative activities of BLM;

4. Substantially impairs the operation of public use facilities or services;

5. Presents a clear and present danger to the public health and safety; or

6. Violates any of the terms and conditions of the permit.

b. BLM will provide, in writing, the reason(s) for revocation. When BLM makes a revocation under emergency circumstances, BLM may immediately revoke your permit by notifying you verbally, and provide you written confirmation within 72 hours.

Sec. 11 Prohibited Acts

While engaged in activities covered under these supplementary rules, you must not—

a. Conduct, participate in, or engage in any public demonstrations that are not authorized by a permit;

b. Violate stipulations or conditions of a permit;

c. Refuse to disperse, when a BLM law enforcement officer or State or local law enforcement officer acting under an agreement with BLM directs you to do so, after BLM has revoked a permit;

d. Obstruct or impede pedestrians or vehicles; or

e. Harass Monument visitors with physical contact. For purposes of these supplementary rules, physical contact means contact that is criminally actionable under State law as assault or battery.

Sec. 12 Penalties

a. Under the Federal Land Policy and Management Act of 1976 (43 U.S.C. 1733(a)), if you knowingly and willfully violate or fail to comply with any of the supplementary rules provided in this notice, you may be subject to a fine under 18 U.S.C. 3571 or other penalties in accordance with 43 U.S.C. 1733.

b. Under the Taylor Grazing Act of 1968 (16 U.S.C. 1246(i)), if you willfully violate or fail to comply with any of the supplementary rules provided in this notice on any grazing district, you may be subject to a fine in accordance with 18 U.S.C. 3571 or other penalties under 16 U.S.C. 1246(i).

[FR Doc. 00-22435 Filed 8-31-00; 8:45 am]

BILLING CODE 4310-33-P